POSTAL SERVICE

39 CFR Part 111

Implementation of Full-Service Intelligent Mail Requirements for Automation Prices; Correction

AGENCY: Postal Service™.

ACTION: Final rule; correction.

SUMMARY: This document corrects an error in the identification of a certain provision of Mailing Standards of the United States Postal Service, Domestic Mail Manual (DMM®), revised in a final rule published in the Federal Register of Thursday, April 18, 2013 (78 FR 23137). The misidentified provision relates to the availability of Intelligent Mail barcode (IMb™) Tracing as an additional mailing service.

DATES: Effective Date: January 31, 2014.

FOR FURTHER INFORMATION CONTACT: Lizbeth J. Dobbins at 202-268-3789.

SUPPLEMENTARY INFORMATION: As published on April 18, 2013 (78 FR 23137), the final rule concerning Implementation of Full-Service Intelligent Mail Requirements for Automation Prices misidentified one affected provision of the Domestic Mail Manual. Specifically, revisions to DMM 503.14.0, concerning Intelligent Mail Barcode Tracing, were erroneously numbered as revisions to DMM 503.15.0, which concerns Money Orders. In order to minimize the possibility of confusion, this error needs to be corrected.

List of Subjects in 39 CFR Part 111

Administrative practice and procedure, Postal Service.

The Postal Service adopts the following correcting amendments to the Mailing Standards of the United States Postal Service, Domestic Mail Manual (DMM), which is incorporated by reference in the Code of Federal Regulations. See 39 CFR 111.1. Accordingly, 39 CFR part 111 is corrected as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

500 Additional Mailing Services

503 Extra Services

* * * * *

[Revise the title of 14.0 as follows:]

14.0 Intelligent Mail Barcode Tracing

* * * * *

14.1 Basic Information

* * * * *

14.1.1 General Information

[Revise the text of 14.1.1 as follows:]

Participation in Intelligent Mail barcode (IMb) Tracing service is available at no charge without a subscription. Requirements for participation in IMb Tracing include:

Use of an IMb on mailpieces entered as part of a full-service mailing under 705.24.0.

Use of a Mailer Identifier that has been registered (through the Business Customer Gateway, accessible on usps.com) to receive scan data.

Verification by the Postal Service that the IMb as printed meets all applicable postal standards.

* * * * *

Stanley F. Mires,
Attorney, Legal Policy & Legislative Advice.

[FR Doc. 2014-01974 Filed 1-30-14; 8:45 am]

BILLING CODE 7710-12--P